DEPARTMENT OF AGRICULTURE

Forest Service

Black Hills National Forest, South Dakota, Elk Bugs and Fuel Project

AGENCY: Forest Service, USDA.

ACTION: Notice of intent to prepare an environmental impact statement.

SUMMARY: In accordance with the National Environmental Policy Act, notice is hereby given that the Forest Service, Black Hills National Forest will prepare a Draft Environmental Impact Statement to disclose the environmental consequences of the proposed Elk Bugs and Fuel Project which encompasses approximately 45,498 acres of National Forest System Land (NFS) and 15,068 acres of interspersed private and state lands. Mountain pine beetles are at epidemic levels in portions of the project area and have caused significant mortality of ponderosa pine. Proposed treatments will focus on reducing hazardous fuel concentrations and stand susceptibility to beetle infestation. Priority will be given to treatments on NFS land near private land and those that would contribute to firefighter safety.

In order to move towards the desired future condition as described in the Black Hills National Forest Land and Resource Management Plan as well as meet the purpose and need of the project proposal, proposed activities include: (1) Commercial hardwood restoration; (2) non-commercial hardwood restoration; (3) commercial thinning; (4) non-commercial thinning; (5) commercial thinning and bait and sanitation cutting; (6) prescribed burning; (7) bait and sanitation cutting; (8) shaded fuel breaks; and (9) transportation activities consisting of road construction, reconstruction, and eliminating unnecessary roads.

In accordance with the National Environmental Policy Act and the National Forest Management Act, the Black Hills National Forest will also evaluate the environmental consequences of four nonsignificant Forest Plan Amendments in the Elk Bugs and Fuel environmental impact statement. The amendments, if approved, would apply only to the Elk Bugs and Fuel project.

The treatments authorized by Pub. L. 107-206 are not subject to the decision that will be made by the Elk Bugs and Fuel Record of Decision. However, section 706 of Pub. L. 107-206 requires that the effects of section 706 actions be disclosed in the Elk Bugs and Fuel cumulative effects analysis for past, present, and reasonable foreseeable future actions. This project proposal does not include any proposed treatments in the Greater Beaver Park Lawsuit Settlement Area, including the Beaver Park roadless area.

DATES: Comments concerning the scope of the analysis must be received by December 16, 2002. The draft environmental impact statement is expected to be available for public review in April 2003 and the final environmental impact statement is expected to be available in July 2003.

ADDRESSES: Submit written, oral, or e-mail comments by: (1) Mail—Elk Bugs and Fuel Project; Carl Leland, U.S. Post Office, Room 201, 18 South Mill Ave, Ridgway, PA 15853; (2) phone—(814) 772-2028; (3) e-mail—cleland@fs.fed.us.

FOR FURTHER INFORMATION CONTACT: Carl Leland at (814) 772-2028

SUPPLEMENTARY INFORMATION:

Purpose and Need for Action

The purpose and need for action of the Elk Bugs and Fuel Project is to reduce mountain pine beetle populations in pine stands, decrease the risk and hazard of wildfire in the proximity of private lands and homes, and to reduce the susceptibility of vegetation to catastrophic fire and further mountain pine beetle attacks.

Proposed Action

The proposed actions to meet the purpose and need include: (1) 409 acres of commercial hardwood restoration; (2) 144 acres of non-commercial hardwood restoration; (3) 10,348 acres of commercial thinning; (4) 3,282 acres of non-commercial thinning; (5) 434 acres of commercial thinning followed by pheromone baiting and sanitation cutting; (6) 562 acres of prescribed burning; (7) 126 acres of pheromone baiting and sanitation cutting; (8) 2,745 acres of shaded fuel breaks; and (9) transportation activities consisting of 42.9 miles of new road construction, 33.9 miles of reconstruction, and 63.5 miles of road decommissioning.

The Black Hills National Forest also proposes to disclose the effects of four nonsignificant Forest Plan Amendments that are needed because of changed conditions brought about by mountain pine beetle infestations and the associated potential for catastrophic wildfire events. The proposed amendments to the Forest Plan, if approved, would apply only to the Elk Bugs and Fuel Project.

Forest Standard 3202, General Wildlife and Fish Direction, provides for big game screening along 20 percent of the edges of arterial and collector roads. Providing shaded fuel breaks along roads in order to protect resources from potential wildfires will require that this standard be reduced to approximately 14 percent for the project area. Management Area (MA) 5.4, Big Game Winter Range Emphasis, Objective 5.4-205 provides for thermal cover for elk, deer and winter turkey habitat on at least 20 percent of the forested portions of the management area. Standard 5.4-2101 states that thermal cover should not be harvested if the planning unit does not meet Objective 5.4-205. In order to maintain the health of many of the insect infested stands, it is necessary to reduce the basal area so that the remaining healthy trees are less stressed and therefore more capable of withstanding insect attacks. Reducing the basal area of some of these stands will decrease their effectiveness in providing thermal cover. It is therefore necessary to temporarily lower the 20 percent standard to approximately 14 percent within the project area until the stands are treated, recover, and grow to a density that will provide thermal cover in the future.

Management Area 5.4, Big Game Winter Range Emphasis. Standard 5.4-3203 states that deer and elk habitat effectiveness should at least meet the following values: Elk Summer = 54 percent; Elk Winter = 47 percent; Deer Summer = 45 percent; and Deer Winter = 46 percent. In order to meet the purpose and need of this project proposal, it will be necessary to amend the Forest Plan, Standard 5.4-3203 to the following approximate values: Elk Summer = 47 percent; Elk Winter = 42 percent; Deer Summer = 44 percent; and Deer Winter = 40 percent.

Management Area 3.31, Backcountry Motorized recreation Emphasis. Standard 3.31-3202 states that deer and elk habitat effectiveness should at least meet the following values: Elk Summer = 40 percent; Elk Winter = 35 percent; Deer Summer = 37 percent; and Deer Winter = 33 percent. In order to meet the purpose and need of this project proposal, it will be necessary to amend the Forest Plan, Standard 3.31-3202 to the following approximate values: Elk Summer = 32 percent; Elk Winter = 28 percent; Deer Summer = 28 percent; and Deer Winter = 25 percent.

Responsible Official

The responsible official for the Elk Bugs and Fuel Project is John C. Twiss, Forest Supervisor, Black Hills National Forest.

Nature of Decision To Be Made

The Elk Bugs and Fuel environmental impact statement will evaluate site specific management proposals, consider alternatives, and analyze the effects of the activities proposed in these alternatives. It will form the basis for the Responsible Official to determine: (1) Whether or not the proposed activities and alternatives are responsive to the issues, are consistent with Forest Plan direction, meet the purpose and need, and are consistent with other related laws and regulations directing National Forest Management Activities; (2) which actions, if any, to approve; (3) whether or not the information in the analysis is sufficient to implement proposed activities; and (4) whether or not to amend the Black Hills National Forest Management Plan, as previously described.

Scoping Process

Comments will be accepted during the 30-day scoping period as described in this notice of intent. Comments will be reviewed and issues identified. Issues that cannot be resolved by mitigation or minor changes to the proposed action may generate alternatives to the proposed action. This process is driven by comments received from the public, other agencies, and internal Forest Service concerns. To assist in commenting, a scoping letter providing more detailed information on the project proposal has been prepared and is available to interested parties. Contact Carl Leland, Interdisciplinary Team Leader, at the address listed in this notice of intent if you would like to receive a copy.

Preliminary Issues

Preliminary Issues were developed based on past projects in the area (environmental analysis), issues developed for similar projects, and Forest Service concerns and opportunities identified in the Project Area. These issues are listed below:

1. Road management—The Forest Service will complete a Roads Analysis, which includes evaluating all roads in the Project Area for effects to the ecosystem. The proposed action requires examining the road system to determine if the existing road system is adequate (or if improvements are needed), and if any roads need to be closed for resource protection or other reasons (e.g., water quality, wildlife, or recreation opportunities).

2. Mountain pine beetle and forest health—The spread of mountain pine beetle attacks has caused a concern that there could be large-scale mortality if these areas are not treated.

3. Prescribed burns, fuels, and wildland-urban interface—There is a concern for an increased potential for wildfires where there are large areas of unmanaged forest, or where mortality from mountain pine beetle infestations has increased fuels.

4. Wildlife habitat—As evidenced by the proposed Forest Plan Amendments, wildlife habitat will fall below present Forest Plan Standards in several areas. The Proposed Action was developed by weighing the potential effects of the proposed treatments to wildlife habitat against the on-going loss of wildlife habitat through mountain pine beetle attacks plus the potential effects of the increased risk of catastrophic wildfire events. This issue will be fully explored in the environmental impact statement. These issues may be modified as additional issues are identified during scoping. A range of alternatives will be considered after public comments are received and analyzed.

Comment Requested

This notice of intent initiates the scoping process that guides the development of the environmental impact statement. Comments that are site-specific in nature are most helpful to resource professionals when trying to narrow and address the public's issues and concerns.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)
Dated: November 7, 2002.
William G. Schleining,
Acting Forest Supervisor.

[FR Doc. 02-28876 Filed 11-14-02; 8:45 am]

BILLING CODE 3410-11-P